DEPARTMENT OF STATE

[Public Notice 6598]

U.S. National Commission for UNESCO Notice of Meeting

The 2010 Annual Meeting of the U.S. National Commission for the United Nations Educational, Scientific, and Cultural Organization (UNESCO) will take place on Wednesday, May 26, 2010 and Thursday, May 27, 2010, at the Embassy Suites in Washington, DC (900 10th Street, NW.). On Wednesday, May 26 from 9 a.m. to 12 p.m. and from 2 p.m. to approximately 6:30 p.m., the Commission will hold a series of informational plenary sessions and subject-specific committee and thematic breakout sessions, which will be open to the public. Additionally, on Thursday, May 27, the Commission will meet from 9 a.m. until approximately 1 p.m. to discuss final recommendations, which also will be open to the public. Members of the public who wish to attend any of these meetings or who need reasonable accommodation should contact the U.S. National Commission for UNESCO no later than Wednesday, May 19th for further information about admission, as seating is limited. Those who wish to make oral comments during the public comment section held during the concluding session Tuesday should request to be scheduled by Thursday, May 20th. Each individual will be limited to five minutes, with the total oral comment period not exceeding thirty minutes. Written comments should be submitted by Tuesday, May 18th to allow time for distribution to the Commission members prior to the meeting. The National Commission may be contacted via e-mail at DCUNESCO@state.gov, or via phone at (202) 663-0026.

Dated: April 28, 2010.
Elizabeth Kanick,
Executive Director, U.S. National Commission for UNESCO, Department of State.

[FR Doc. 2010-10548 Filed 5-4-10; 8:45 am]

BILLING CODE 4710-19-P